DEPARTMENT OF JUSTICE

Notice of Lodging of Consent Decree Pursuant to the Clean Water Act

On June 20, 2019, the Department of Justice lodged a proposed Consent Decree (“Consent Decree”) in the United States District Court for the Southern District of Mississippi, in the lawsuit entitled the United States of America and State of Mississippi v. City of Meridian, Mississippi, Civil Action No. 3:19-CV-427-DPJ-FKB.

This Decree represents a settlement of the United States' and State's (“Plaintiffs”) claims against the City of Meridian, Mississippi (“City” or “Defendant”) for violations of Sections 301 and 309 of the Clean Water Act (“CWA”), 33 U.S.C. 1311 and 1319, and the Mississippi Air and Water Pollution Law (“MAWPCL”) (Miss. Code Ann. §§ 49-17-1 through 49-17-43. The Consent Decree requires the City to undertake injunctive measures designed to eliminate sanitary sewer overflows (“SSOs”) and to achieve compliance with the CWA, MAWPCL and the City's National Pollutant Elimination Discharge System (“NPDES”) permit. The Consent Decree further requires the Defendant to pay a civil penalty of $276,000, which will be divided evenly between the United States and the State. An Amended Notice of Lodging and Consent Decree were filed with the Court on June 21, 2019.

The publication of this notice opens a period for public comment on the Consent Decree. Comments should be addressed to the Assistant Attorney General, Environment and Natural Resources Division, and should refer to United States of America and State of Mississippi v. City of Meridian, Mississippi, the D.J. Ref. No. 90-5-1-1-11167. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Amended Consent Decree may be examined and downloaded at this Justice Department website: http://www.usdoj.gov/enrd/Consent_Decrees.html. We will provide a paper copy of the Amended Consent Decree upon written request and payment of reproduction costs. Please mail your request and payment to: Consent Decree Library, U.S. DOJ—ENRD, P.O. Box 7611, Washington, DC 20044-7611.

Please enclose a check or money order for $15.25 (25 cents per page reproduction cost) payable to the United States Treasury for the Consent Decree and $169.00 for the Consent Decree and Exhibits thereto.

Henry S. Friedman,
Assistant Section Chief, Environmental Enforcement Section, Environment and Natural Resources Division.

[FR Doc. 2019-13726 Filed 6-26-19; 8:45 am]

BILLING CODE 4410-15-P